DEPARTMENT OF THE INTERIOR

Office of Natural Resources Revenue

30 CFR Part 1206

Product Valuation

CFR Correction

In Title 30 of the Code of Federal Regulations, Part 700 to End, revised as of July 1, 2011, “ONNR” is corrected to read “ONRR”, as set forth in the following table:

§§ 1206.52, 1206.53, 1206.54, 1206.56, 1206.57 [Corrected]

Section | Page | Paragraph
§ 1206.52 | 739 | (c) introductory text, (c)(2) introductory text, (c)(2)(i), (c)(2)(ii),
| 740 | (e)(3) two times, (e)(4) introductory text, (e)(5) two times.
§ 1206.53 | 741 | (c) introductory text, (d).
§ 1206.54 | 741 | (a)
§ 1206.56 | 742 | (a), (b)(2) two times, (d).
§ 1206.57 | 742 | (a)(1)(i) two times, (a)(1)(ii) two times, (a)(1)(iii) once.
| 743 | (a)(1)(iii) three times, (a)(2)(i), (a)(2)(ii) two times, (a)(3) five times, (a)(5) two times, (b)(1) four times,
| 744 | (b)(2)(iv) introductory text, (b)(2)(iv)(A), (b)(2)(iv)(B), (b)(3)(i), (b)(3)(ii) two times,
| 745 | (b)(4) five times, (b)(5) introductory text four times, (b)(5)(i), (c)(1)(iii), (c)(1)(iv) two times, (c)(1)(v),
| 746 | (c)(2)(iii) two times, (c)(2)(v), (c)(2)(vi) two times, (c)(2)(vii), (c)(4).

[FR Doc. 2012-1572 Filed 1-24-12; 8:45 am]

BILLING CODE 1505-01-D